DEPARTMENT OF HOMELAND SECURITY

Coast Guard

[Docket No. USCG-2013-0194]

Navigation Safety Advisory Council; Vacancies

AGENCY: Coast Guard, DHS.

ACTION: Request for applications.

SUMMARY: The Coast Guard seeks applications for membership on the Navigation Safety Advisory Council (NAVSAC). NAVSAC provides advice and recommendations to the Secretary of Homeland Security, through the Commandant of the U.S. Coast Guard, on matters relating to maritime collisions, rammings, and groundings; Inland Rules of the Road; International Rules of the Road; navigation regulations and equipment, routing measures, marine information, diving safety, and aids to navigation systems.

DATES: Applicants must submit a cover letter and resume on or before July 12, 2013.

ADDRESSES: Applicants should submit a cover letter and resume via one of the following methods:

• By mail: Mr. Mike Sollosi, Alternate Designated Federal Officer (ADFO), Commandant (CG-NAV), U.S. Coast Guard 2100 2ND Street SW., STOP 7580, Washington, DC 20593-7580;

• By fax to 202-372-1991; or

• By email to Mike.M.Sollosi@uscg.mil

FOR FURTHER INFORMATION CONTACT: Mr. Mike Sollosi, the NAVSAC Alternate Designated Federal Officer (ADFO), at telephone 202-372-1545, fax 202-372-1991, or email Mike.M.Sollosi@uscg.mil; or Mr. Burt Lahn, NAVSAC coordinator, at telephone 202-372-1526, or email burt.a.lahn@uscg.mil.

SUPPLEMENTARY INFORMATION: NAVSAC is a federal advisory committee authorized by Title 33 United States Code Section 2073 and chartered under the Federal Advisory Committee Act, (Pub. L. 92-463; Title 5 U.S.C. App.). NAVSAC provides advice and recommendations to the Secretary, through the Commandant of the U.S. Coast Guard, on matters relating to maritime collisions, rammings, and groundings; Inland Rules of the Road; International Rules of the Road; navigation regulations and equipment, routing measures, marine information, diving safety, and aids to navigation systems.

NAVSAC is expected to meet at least twice each year, or more often with the approval of the Designated Federal Officer (DFO). All members serve at their own expense and receive no salary from the Federal Government, although travel reimbursement and per diem may be provided for called meetings. The NAVSAC is comprised of not more than 21 members who shall have expertise in Inland and International vessel navigation Rules of the Road, aids to maritime navigation, maritime law, vessel safety, port safety, or commercial diving safety. Each member shall be appointed to represent the viewpoints and interests of one of the following groups or organizations, and at least one member shall be appointed to represent each membership category:

a. Commercial vessel owners or operators

b. Professional mariners

c. Recreational boaters

d. The recreational boating industry

e. State agencies responsible for vessel or port safety

f. The Maritime Law Association.

Members serve as representatives and are not Special Government Employees as defined in section 202(a) of Title 18, United States Code.

The Coast Guard will consider applications for seven positions that will become vacant on November 4, 2013, in the following categories:

a. Commercial vessel owners or operators

b. Professional mariners

c. Recreational boaters

d. State agencies responsible for vessel or port safety.

To be eligible, you should have experience in one of the categories listed above.

Members shall serve terms of office of up to three (3) years. Members may be considered to serve up to two (2) consecutive terms. In the event NAVSAC is terminated, all appointments to the Council shall terminate.

Registered lobbyists are not eligible to serve on Federal advisory committees. Registered lobbyists are lobbyists required to comply with provisions contained in the Lobbying Disclosure Act of 1995 (Pub. L. 104-65 as amended by Title II of Pub. L. 110-81).

The Department of Homeland Security (DHS) does not discriminate in employment on the basis of race, color, religion, sex, national origin, political affiliation, sexual orientation, gender identity, marital status, disability and generic information, age, membership in an employee organization, or other non-merit factor. DHS strives to achieve a widely diverse candidate pool for all of its recruitment actions.

If you are interested in applying to become a member of the Council, submit your complete application package to Mr. Mike Sollosi, NAVSAC ADFO via one of the transmittal methods provided above. Indicate the position you wish to fill and specify your area of expertise, knowledge and experience that qualifies you for service on NAVSAC. Note that during the pre-selection vetting process, applicants may be asked to provide their date of birth and social security number.

To visit our online docket, go to https://www.regulations.gov. enter the docket number (USCG-2013-0194) in the Search box, and click “Search”. Please do not post your resume on this site.

Dated: May 23, 2013.
Dana A. Goward,
Director, Marine Transportation Systems, U.S. Coast Guard.

[FR Doc. 2013-12776 Filed 5-29-13; 8:45 am]

BILLING CODE 9110-04-P